NATIONAL AERONAUTICS AND SPACE ADMINISTRATION

[16-071]

Notice of Centennial Challenges 3D-Printed Habitat Structural Member Challenge

AGENCY: National Aeronautics and Space Administration (NASA).

SUMMARY: This notice is issued in accordance with 51 U.S.C. 20144(c). The 3D-Printed Habitat Challenge (3DP), Structural Member Competition is open and teams that wish to compete may now register. Centennial Challenges is a program of prize competitions to stimulate innovation in technologies of interest and value to NASA and the nation. The 3D-Printed Habitat Challenge Phase 2 Structural Member is a prize competition with a $1,100,000 total prize purse to develop the fundamental technologies necessary to manufacture an off-world habitat using mission recycled materials and/or local indigenous materials.

DATES: Challenge registration opens October 7, 2016, and will remain open until January 31, 2017.

Other important dates:

March 31, 2017—Level 1: Truncated Cone Slump Test and Cylinder ASTM C39 Compression Results due to Judges

May 31, 2017—Level 2: Beam Member ASTM C78 Flexure Test Results due to Judges

August 24-27, 2017—Level 3: Structural Member Competition

ADDRESSES: The challenge competition will take place at: Caterpillar Edwards Demonstration and Learning Center, 5801 N. Smith Road, Edwards, IL 61528.

FOR FURTHER INFORMATION CONTACT: To register for or get additional information regarding the 3D Printed Habitat Challenge, please visit: http://bradley.edu/challenge.

For general information on the NASA Centennial Challenges Program please visit: http://www.nasa.gov/challenges. General questions and comments regarding the program should be addressed to Monsi Roman, Centennial Challenges Program, NASA Marshall Space Flight Center Huntsville, AL 35812. Email address: hq-stmd-centennialchallenges@mail.nasa.gov.

SUPPLEMENTARY INFORMATION:

Summary

The goal of the 3D-Printed Habitat Challenge is to foster the development of new technologies necessary to additively manufacture a habitat using local indigenous materials with, or without, recyclable materials. The Challenge is broken into three parts as described below.

• Design Competition—focused on developing innovative habitat architectural concepts that take advantage of the unique capabilities that 3D-Printing offers (completed in 2015).

• Structural Member Competition (Phase 2)—will focus on the core 3D-Printing fabrication technologies and materials properties needed to manufacture structural components from indigenous materials combined with recyclables, or indigenous materials alone; serves as a qualifier for participation in Phase 3.

• On-Site Habitat Competition (Phase 3)—(to be announced at a later date) will focus on the 3D-Printing fabrication of a scaled habitat design, using indigenous materials combined with recyclables, or indigenous materials alone, and will have a prize purse of $1.4 million.

I. Prize Amounts

The 3D Printed Habitat Structural Member Competition purse is $1,100,000 (one million one hundred thousand dollars) to be disbursed as follows:

Level 1 Prize

$100,000 total prize money to be awarded to top 10 qualifiers based on scores.

Level 2 Prize

$500,000 total prize money to be awarded to top 10 qualifiers based on scores.

Level 3 Prize

$250,000 to first place

$150,000 to second place

$100,000 to third place

II. Eligibility

To be eligible to win a prize, competitors must:

(1) Register and comply with all requirements in the rules and Team Agreement;

(2) In the case of a private entity, shall be incorporated in and maintain a primary place of business in the United States, and in the case of an individual, whether participating singly or in a group, shall be a citizen or permanent resident of the United States; and

(3) Not be a Federal entity or Federal employee acting within the scope of their employment.

III. Rules

The complete rules for the 3D-Printed Habitat Challenge can be found at: http://bradley.edu/challenge.

Cheryl Parker,
NASA Federal Register Liaison Officer.

[FR Doc. 2016-24299 Filed 10-6-16; 8:45 am]

BILLING CODE 7510-13-P